DEPARTMENT OF ENERGY

Federal Energy Regulatory Commission

[Project No. 10482-122: Eagle Creek Hydro Power, LLC, Eagle Creek Water Resources, LLC, Eagle Creek Land Resources, LLC; Project No. 10481-069: Eagle Creek Hydro Power, LLC, Eagle Creek Water Resources, LLC, Eagle Creek Land Resources, LLC; Project No. 9690-115: Eagle Creek Hydro Power, LLC, Eagle Creek Water Resources, LLC, Eagle Creek Land Resources, LLC]

Notice of Intent To Prepare an Environmental Assessment

On March 31, 2020, Eagle Creek Hydro Power, LLC, Eagle Creek Water Resources, LLC, and Eagle Creek Land Resources, LLC (co-licensees collectively referred to as Eagle Creek) jointly filed an application for a new license for each of the “Mongaup River Projects” consisting of: (1) The 7.85-megawatt (MW) Swinging Bridge Hydroelectric Project (Swinging Bridge Project); (2) the 4.0-MW Mongaup Falls Hydroelectric Project (Mongaup Falls Project); and (3) the 10.8-MW Rio Hydroelectric Project (Rio Project). The Swinging Bridge Project is located on the Mongaup River and Black Lake Creek in Sullivan County, New York. The Mongaup Falls Project is located on the Mongaup River and Black Brook in Sullivan County, New York. The Rio Project is located on the Mongaup River in Sullivan and Orange Counties, New York. The projects do not occupy any federal land.

In accordance with the Commission's regulations, on January 29, 2021, Commission staff issued a notice that the project was ready for environmental analysis (REA notice).¹ Based on the information in the record, including comments filed on the REA notice and an Offer of Settlement (Settlement Agreement), filed on May 28, 2021, staff does not anticipate that licensing the project would constitute a major federal action significantly affecting the quality of the human environment. Therefore, staff intends to prepare a multi-project Environmental Assessment (EA) on the application to license each of the Mongaup River Projects.

¹ On March 19, 2021, the Commission granted a 59-day extension of time of the procedural schedule identified in the REA Notice, setting the deadlines to file comments on the REA Notice and reply comments as May 28 and July 12, 2021, respectively.

The EA will be issued and circulated for review by all interested parties. All comments filed on the EA will be analyzed by staff and considered in the Commission's final licensing decision.

The application will be processed according to the following schedule. Revisions to the schedule may be made as appropriate.

Milestone | Target date
Commission issues EA | October 2021.²
Comments on EA | November 2021.

Any questions regarding this notice may be directed to Nicholas Ettema at (312) 596-4447 or nicholas.ettema@ferc.gov.

² The Council on Environmental Quality's (CEQ) regulations under 40 CFR 1501.10(b)(1) require that EAs be completed within 1 year of the federal action agency's decision to prepare an EA. This notice establishes the Commission's intent to prepare an EA for the Mongaup River Projects. Therefore, in accordance with CEQ's regulations, the EA must be issued within 1 year of the issuance date of this notice.

Dated: June 14, 2021.
Kimberly D. Bose,
Secretary.

[FR Doc. 2021-13378 Filed 6-23-21; 8:45 am]

BILLING CODE 6717-01-P